DEPARTMENT OF ENERGY

Federal Energy Regulatory Commission

[Docket No. RP02-390-000]

Eastern Shore Natural Gas Company; Notice of Proposed Changes in FERC Gas Tariff

July 24, 2002.

Take notice that on July 18, 2002 Eastern Shore Natural Gas Company (Eastern Shore) tendered for filing as part of its FERC Gas Tariff, Second Revised Volume No. 1, First Revised Sheet No. 193; Original Sheet No. 193A, and First Revised Sheet No. 194.

Eastern Shore states that the tariff sheets are being submitted to comply with Commission Order No. 587-N, issued on March 11, 2002 in Docket No. RM96-1-019. Order No 587-N requires interstate pipelines to make tariff filings to be effective July 1, 2002 “to comply with the requirement to implement recalls of scheduled and unscheduled capacity for the Timely and Evening Nomination cycles and for recalls of unscheduled capacity.”

Eastern Shore states that copies of its filing has been mailed to its customers and interested state commissions.

Any person desiring to be heard or to protest said filing should file a motion to intervene or a protest with the Federal Energy Regulatory Commission, 888 First Street, NE., Washington, DC 20426, in accordance with Sections 385.214 or 385.211 of the Commission's Rules and Regulations. All such motions or protests must be filed in accordance with Section 154.210 of the Commission's Regulations. Protests will be considered by the Commission in determining the appropriate action to be taken, but will not serve to make protestants parties to the proceedings. Any person wishing to become a party must file a motion to intervene. Copies of this filing are on file with the Commission and are available for public inspection. This filing may also be viewed on the Web at http://www.ferc.gov using the “RIMS” link, select “Docket#” and follow the instructions (call 202-208-2222 for assistance). Comments, protests and interventions may be filed electronically via the Internet in lieu of paper. See, 18 CFR 385.2001(a)(1)(iii) and the instructions on the Commission's Web site under the “e-Filing” link.

Linwood A. Watson, Jr.,
Deputy Secretary.

[FR Doc. 02-19217 Filed 7-29-02; 8:45 am]

BILLING CODE 6717-01-P